DEPARTMENT OF AGRICULTURE

Submission for OMB Review; Comment Request

July 29, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by September 3, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Swine Contract Library.

OMB Control Number: 0581-0311.

Summary of Collection: The Swine Packer Marketing Contracts subtitle of the Livestock Mandatory Reporting Act of 1999 (LMRA) amended the Packers and Stockyards (P&S) Act to mandate the establishment of a library of swine packer marketing contracts (swine contract library), and a monthly report of types of contracts in existence and available, and commitments under such contracts. On February 17, 2016, a final rule was published in the Federal Register re-establishing regulatory authority for the Swine Contract Library's (SCL) regulations (9 CFR part 206) by amending the regulations' authority citation to include Subtitle B of Title II of the P&S Act (7 U.S.C. 198-198b). In addition to amending the SCL regulations to make them consistent with the Reauthorization Act (Pub. L. 109-296) the Agency also amended the SCL regulations making other changes to enhance the library's overall effectiveness and efficiency in response to input from regulated entities and the public. PSD issued regulations to address the implementation and requirements for the swine contract library.

Need and Use of the Information: Information is required from packers for processing plants that meet certain criteria, including size as measured by annual slaughter. The USDA Agricultural Marketing Service, Packers and Stockyards Division (PSD) is responsible for implementing and enforcing the P&S Act, including the swine contract library. The collection of information is necessary for PSD to perform the functions required for the mandatory reporting of swine packer marketing contract information.

Description of Respondents: Business or other for-profit.

Number of Respondents: 55.

Frequency of Responses: Recordkeeping; Reporting: On occasion.

Total Burden Hours: 2,122.

Kimble Brown,
Departmental Information Collection Clearance Officer.

[FR Doc. 2019-16399 Filed 7-31-19; 8:45 am]

BILLING CODE 3410-02-P